DEPARTMENT OF JUSTICE

Notice of Lodging of Consent Decree Modification Under the Clean Water Act

Notice is hereby given that on July 2, 2012, a proposed Consent Decree Modification (“Modification”) in United States and State of New Hampshire v. City of Portsmouth, New Hampshire, Civil Action No. 09-CV-283-PB, was lodged with the United States District Court for the District of New Hampshire.

The Modification modifies a Consent Decree between the parties which was entered by the federal district court on September 24, 2009 (“Decree”). The Decree resolved claims of the United States and State of New Hampshire against the City of Portsmouth, New Hampshire (the “City”), pursuant to Section 301(a) of the Clean Water Act (“CWA”), 33 U.S.C. 1301(a).

The Decree required the City, among other things, to control discharges from the combined sewer overflow (“CSO”) outfalls, propose a schedule for construction of a secondary wastewater treatment facility for approval by the United States Environmental Protection Agency, and upon inclusion of the schedule in the Decree, comply with the construction schedule. The City encountered unexpected geological conditions that impaired the City's ability to meet the previously-designated CSO mitigation construction schedule. The Modification extends the completion deadline for the CSO projects by one year—until October 2014. Pursuant to the requirements in the Decree, the City proposed a detailed schedule for constructing secondary treatment facilities. The Modification requires the City to complete construction of secondary treatment facilities by March, 2017.

The Department of Justice will receive for a period of thirty (30) days from the date of this publication comments relating to the Modification. Comments should be addressed to the Assistant Attorney General, Environmental and Natural Resources Division, and either emailed to pubcomment-ees.enrd@usdoj.gov or mailed to P.O. Box 7611, U.S. Department of Justice, Washington, DC 20044-7611, and should refer to United States and State of New Hampshire v. City of Portsmouth, New Hampshire, Civil Action No. 09-CV-283-PB, D.J. Ref. 90-5-1-1-09308.

During the public comment period, the Modification, may also be examined on the following Department of Justice Web site, http://www.usdoj.gov/enrd/Consent_Decrees.html. A copy of the Modification may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. In requesting a copy from the Consent Decree Library, please enclose a check in the amount of $2.75 (25 cents per page reproduction cost) payable to the U.S. Treasury or, if by email or fax, forward a check in that amount to the Consent Decree Library at the stated address.

Ronald Gluck,
Assistant Chief, Environmental Enforcement Section, Environment and Natural Resources Division.

[FR Doc. 2012-17417 Filed 7-17-12; 8:45 am]

BILLING CODE 4410-15-P